DEPARTMENT OF HOMELAND SECURITY

Coast Guard

33 CFR Part 117

[Docket No. USCG-2026-0017]

RIN 1625-AA09

Drawbridge Operation Regulation; New Rochelle Harbor, Westchester County, NY

AGENCY: Coast Guard, DHS.

ACTION: Temporary Interim Rule with request for comments

SUMMARY: The Coast Guard is temporarily modifying the operating schedule that governs the Glen Island Bridge, across New Rochelle Harbor, mile 0.8, in Westchester County, NY. This modification is required to complete the rehabilitation of the existing bridge and removal of the temporary bridge. Approving this temporary modification will allow the bridge to return to normal operating schedule and complete the rehabilitation project earlier than originally scheduled.

DATES: This temporary interim rule is effective February 3, 2026 through 5 p.m. on June 26, 2026.

Comments and related material must reach the Coast Guard on or before March 5, 2026.

ADDRESSES: To view documents mentioned in this preamble as being available in the docket, go to https://www.regulations.gov. Type the docket number (USCG-2026-0017) in the “SEARCH” box and click “SEARCH”. In the Document Type column, select “Supporting & Related Material”.

You may submit comments identified by docket number USCG-2026-0017 at https://www.regulations.gov.

See the “Public Participation and Request for Comments” portion of the SUPPLEMENTARY INFORMATION section below for instructions on submitting comments.

FOR FURTHER INFORMATION CONTACT: If you have questions on this temporary interim rule, call or email Stephanie E. Lopez, Northeast District Bridge Management Specialist, U. S. Coast Guard, telephone 571-608-5676, Stephanie.E.Lopez@uscg.mil.

SUPPLEMENTARY INFORMATION:

I. Table of Abbreviations

CFR Code of Federal Regulations

DHS Department of Homeland Security

FR Federal Register

NPRM Notice of proposed rulemaking

Pub. L. Public Law

§ Section

U.S.C. United States Code

II. Background Information and Regulatory History

The Coast Guard is issuing this temporary interim rule under the authority in 5 U.S.C. 553(b). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule because it is impracticable. This bridge is non-operational and will remain non-operational until rehabilitation work can be completed.

On September 12, 2025, the Coast Guard issued a General Deviation that allowed the bridge owner, Westchester County Department of Public Works and Transportation to deviate from the current operating schedule in 33 CFR 117.802(a). This deviation allowed the bridge to remain in the closed position to conduct rehabilitation of the existing bridge. The construction schedule anticipated subsequent deviations to complete rehabilitation work and remove the temporary bridge, with project completion anticipated in October 2026. However, the bridge owner notified the Coast Guard that rehabilitation work is ahead of schedule and requested extending the current deviation to complete all rehabilitation work and remove the temporary bridge by June 26, 2026. Under this new construction schedule, the existing bridge cannot be brought back to an operating condition until rehabilitation work is complete and traffic is shifted from the temporary bridge. Therefore, there is insufficient time to provide a reasonable comment period and then consider those comments before issuing the modification.

However, we will be soliciting comments on this rulemaking during the first 30 days while this rule is in effect. If the Coast Guard determines that changes to the temporary interim rule are necessary, we will publish a temporary final rule or other appropriate document.

Under 5 U.S.C. 553(d)(3), the Coast Guard finds that good cause exists for making it effective in less than 30 days after publication in the Federal Register. For reasons presented above, delaying the effective date of this rule would be impracticable and contrary to the public interest due to the fact that the bridge is currently inoperable and will not be back into operation until the rehabilitation work can be completed.

III. Legal Authority and Need for Rule

The Coast Guard is issuing this temporary interim rule under authority in 33 U.S.C. 499 which gives us the authority to regulate drawbridge operation schedules.

The Glen Island Bridge, across New Rochelle Harbor, mile 0.8, is a steel bascule bridge with a temporary steel bascule bridge adjacent. Both bridges have a vertical clearance of 13 feet in the closed position and unlimited in the open position, the bridge operates under 33 CFR 117.802(a).

On December 19, 2025, Westchester County Department of Public Works and Transportation conducted a meeting with USCG Northeast District bridge management staff to discuss the project's schedule. The bridge owner proposed a new schedule that will speed construction and bring the bridge back to normal operating regulation by late June 2026 instead of the original completion date of late October 2026.

This waterway is transited primarily by recreational vessels with a maximum length of 75 feet, maximum beam 20 feet, and maximum height of 80 feet. The bridge owner has been in contact with local waterway users, including the Huguenot Yacht Club, commercial mariners, the Westchester Police Department, and local residents, none of whom expressed objections to the revised construction schedule.

IV. Discussion of the Temporary Interim Rule

The current temporary deviation approved on September 12, 2025, allows the bridge to remain in the closed position from 7 a.m. on October 2, 2025, through 5 p.m. on April 29, 2026. Additional deviations would have been required for bridge closures from 7 a.m. on August 11, 2026, through 5 p.m. on August 17, 2026, and from 7 a.m. on October 2, 2026, through 5 p.m. on October 29, 2026. The new deviation will allow the bridge to remain in the closed position through 5 p.m. on June 26, 2026. At this time, no additional deviations will be required to complete the rehabilitation project to the existing bridge and remove the temporary bridge.

V. Regulatory Analyses

We developed this temporary interim rule after considering numerous statutes and Executive Orders related to rulemaking. Below we summarize our analyses based on a number of these statutes and Executive Orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev.1, associated implementing instructions, and Environmental Planning Policy COMDTINST 5090.1 (series) which guide the Coast Guard in complying with the National Environmental Policy Act of 1969 (NEPA)(42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

VI. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2026-0017 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you go to the online docket and sign up for email alerts through the “Subscribe” option, you will be notified when comments/updates are posted, or a final rule is published.

Personal information. We accept anonymous comments. Comments we post to https://www.regulations.gov will include any personal information you have provided. For more about privacy and submissions in response to this document, see DHS's eRulemaking System of Records notice (85 FR 14226, March 11, 2020).

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1. Revision No. 01.4.

2. Amend § 117.802 by:

a. Staying paragraph (a).

b. Adding paragraph (c).

The addition reads as follows:

§ 117.802 New Rochelle Harbor.

* * * * *

(c) The draw of the Glen Island Bridge, mile 0.8, across New Rochelle Harbor at New Rochelle, may be maintained in the closed to navigation position until 5 p.m. on June 26, 2026.

M.E. Platt,
Rear Admiral, U.S. Coast Guard, Commander, Northeast Coast Guard District.

[FR Doc. 2026-02175 Filed 2-2-26; 8:45 am]

BILLING CODE 9110-04-P